DEPARTMENT OF DEFENSE

Department of the Navy

Meeting of the Chief of Naval Operations (CNO) Executive Panel

AGENCY: Department of the Navy, DOD.

ACTION: Notice of closed meeting.

SUMMARY: The CNO Executive Panel reported the recommendations of the South Asia Study Group to the Chief of Naval Operations. This meeting consisted of discussions relating to South Asia security issues as context for potential expansion of U.S. security cooperation with nations of the region.

DATES: The meeting was held on Tuesday, October 7, 2003, from 7 a.m. to 8 a.m.

ADDRESSES: The meeting was held at the Chief of Naval Operations dining room, Room 4E641, 2000 Navy Pentagon, Washington, DC 20350-2000.

FOR FURTHER INFORMATION CONTACT: Commander David Hughes, CNO Executive Panel, 4825 Mark Center Drive, Alexandria, VA 22311, (703) 681-4908 or Commander Jonathan Huggins, CNO Executive Panel, (703) 681-6207.

SUPPLEMENTARY INFORMATION: Pursuant to the provisions of the Federal Advisory Committee Act (5 U.S.C. App. 2), these matters constituted classified information that is specifically authorized by Executive Order to be kept secret in the interest of national defense and are, in fact, properly classified pursuant to such Executive Order. Accordingly, the Secretary of the Navy determined in writing that the public interest required that the meeting be closed to the public because it was concerned with matters listed in section 552b(c)(1) of title 5, United States Code.

Due to an unavoidable delay in administrative processing, the 15 days advance notice could not be provided.

Dated: October 10, 2003.
E.F. McDonnell,
Major, U.S. Marine Corps, Federal Register Liaison Officer.

[FR Doc. 03-26271 Filed 10-16-03; 8:45 am]

BILLING CODE 3810-FF-U